DEPARTMENT OF THE TREASURY

Submission for OMB Review; Comment Request

August 26, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 10, 2003, to be assured of consideration.

Internal Revenue Service (IRS)

OMB Number: 1545-1844.

Form Number: IRS Form 13369.

Type of Review: Extension.

Title: Agreement to Mediate.

Description: Fast Track Mediation is a dispute resolution process designed to expedite case resolution. In order to avail themselves of this process, taxpayers and Compliance must complete the Agreement to Mediate once an examination or collection determination is made. Once signed by both parties, the Agreement to Mediate will be forwarded to Appeals to schedule a mediation session.

Respondents: Individuals or households, business or other for-profit, not-for-profit institutions, Federal Government, State, local or tribal government.

Estimated Number of Respondents: 300.

Estimated Burden Hours Respondent: 3 minutes.

Frequency of Response: On occasion.

Estimated Total Reporting Burden: 15 hours.

OMB Number: 1545-1845.

Notice Number: Notice 2003-38.

Type of Review: Extension.

Title: Compliance Initiative for Foreign Corporations and Nonresident Aliens, with Related Document on Frequently Asked Questions.

Description: This notice explains a compliance initiative and the procedure by which certain nonresident aliens and foreign corporations may file income tax returns that were not filed in a timely manner in accordance with the regulations under section 874(a) or 882(c)(2).

Respondents: Individuals or households, business or other for-profit.

Estimated Number of Respondents: 200.

Estimated Burden Hours Respondent: 15 minutes.

Frequency of Response: Other (once).

Estimated Total Reporting Burden: 50 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 03-23017 Filed 9-9-03; 8:45 am]

BILLING CODE 4830-01-P